DEPARTMENT OF JUSTICE

Notice of Lodging of Consent Decree Pursuant to the Comprehensive Environmental Response, Compensation, and Liability Act

In accordance with Departmental policy and 28 CFR 50.7, notice is hereby given that a Consent Decree in United States v. Square D Co., Civ. A. 01-CV-6048, was lodged on December 4, 2001 with the United States District Court for the Eastern District of Pennsylvania. The Consent Decree resolves the claims of the United States under section 107 of the Comprehensive Environmental Response, Compensation, and Liability Act against Square D Co. for reimbursement of $138,193, one hundred percent of outstanding response costs incurred in responding to contamination at the Rodale Manufacturing Superfund Site (“the Site”) located in the Borough of Emmaus, Lehigh County, Pennsylvania. The Commonwealth of Pennsylvania is also a party to the Consent Decree, which will reimburse the Commonwealth for all its past and future response costs.

The Consent Decree also requires Square D Co. to pay all future response costs not inconsistent with the National Contingency Plan and to finance and to perform remedial work at the Site.

The Department of Justice will receive, for a period of not less than thirty (30) days from the date of this publication, comments relating to the proposed Consent Decree. Comments should be addressed to the Assistant Attorney General for the Environment and Natural Resources Division, Department of Justice, Washington, DC 20530, and should refer to United States v. Square D. Co. (01-CV-6048), DOJ Ref. #90-11-2-06943.

The Consent Decree may be examined at the Office of the United States Attorney, 615 Chestnut Street, Suite 1250, Philadelphia, PA, 19106, and at the Region III Office of the Environmental Protection Agency, 1650 Arch Street, Philadelphia, Pennsylvania 19103. A copy of the proposed Consent Decree may be obtained by mail from the Consent Decree Library, Department of Justice, PO Box 7611, Washington, DC 20044-7611. In requesting a copy from the Consent Decree Library, please refer to the referenced case and enclose a check in the amount of $23.25 (25 cents per page reproduction cost), payable to the Consent Decree Library.

Robert Brook,
Assistant Section Chief, Environmental Enforcement Section, Environment and Natural Resources Division, United States Department of Justice, PO Box 7611, Washington, DC 20044-7611.

[FR Doc. 02-362 Filed 1-7-02; 8:45 am]

BILLING CODE 4410-15-M